INTERNATIONAL TRADE COMMISSION

[Inv. No. 337-TA-536]

In the Matter of Certain Pool Cues With Self-Aligning Joint Assemblies and Components Thereof; Notice of Investigation

AGENCY: U.S. International Trade Commission.

ACTION: Institution of investigation pursuant to 19 U.S.C. 1337.

SUMMARY: Notice is hereby given that a complaint was filed with the U.S. International Trade Commission on February 28, 2005, under section 337 of the Tariff Act of 1930, as amended, 19 U.S.C. 1337, on behalf of J. Pechauer Custom Cues Incorporated of Green Bay, Wisconsin. A supplemental letter was filed on March 18, 2005. The complaint alleges violations of section 337 in the importation into the United States, the sale for importation, and the sale within the United States after importation of certain pool cues with self-aligning joint assemblies and components thereof by reason of infringement of claims 1-29 of U.S. Patent No. 6,582,317. The complaint further alleges that an industry in the United States exists as required by subsection (a)(2) of section 337.

The complainant requests that the Commission institute an investigation and, after the investigation, issue a permanent exclusion order and permanent cease and desist orders.

ADDRESSES: The complaint, except for any confidential information contained therein, is available for inspection during official business hours (8:45 a.m. to 5:15 p.m.) in the Office of the Secretary, U.S. International Trade Commission, 500 E Street, SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its Internet server at http://www.usitc.gov. The public record for this investigation may be viewed on the Commission's electronic docket (EDIS) at http://edis.usitc.gov.

FOR FURTHER INFORMATION CONTACT: Erin D.E. Joffre, Esq., Office of Unfair Import Investigations, U.S. International Trade Commission, telephone (202) 205-2550.

Authority: The authority for institution of this investigation is contained in section 337 of the Tariff Act of 1930, as amended, and in section 210.10 of the Commission's Rules of Practice and Procedure, 19 CFR 210.10 (2004).

Scope of Investigation: Having considered the complaint, the U.S. International Trade Commission, on March 28, 2005, ordered that—

(1) Pursuant to subsection (b) of section 337 of the Tariff Act of 1930, as amended, an investigation be instituted to determine whether there is a violation of subsection (a)(1)(B) of section 337 in the importation into the United States, the sale for importation, or the sale within the United States after importation of certain pool cues with self-aligning joint assemblies or components thereof by reason of infringement of one or more of claims 1-29 of U.S. Patent No. 6,582,317, and whether an industry in the United States exists as required by subsection (a)(2) of section 337.

(2) For the purpose of the investigation so instituted, the following are hereby named as parties upon which this notice of investigation shall be served:

(a) The complainant is—

J. Pechauer Custom Cues Incorporated, 4140 Velp Avenue, Green Bay, Wisconsin 54313.

(b) The respondents are the following companies alleged to be in violation of section 337, and are the parties upon which the complaint is to be served:

Kaokao Industrial Co. LTD., aka Kaokao (Zhang Zhou) Sports Equipment Co. Ltd., P.O. Box 65-203 Taichung, Taiwan, 14-B Floor No. 270, Chung Ming South Road, Taichung, Taiwan 403;

CueStix International, 1668 Overlook Drive #104, Lafayette, Colorado 80026;

Sterling Gaming, 3372 Smith Farm Road, Matthews, North Carolina 28104;

CueSight, 3372 Smith Farm Road, Matthews, North Carolina 28104;

Imperial International, 621 West Route 46, Hasbrouck Heights, New Jersey 07604;

Sigel's Unlimited Cues & Accessories, 730 South Dillard Street, Winter Garden, Florida 34787;

Nick Varner Cues and Cases, 1400-B Triplett Street, Owensboro, Kentucky 42303;

J-S Sales Co. Inc., 102 Fairview Park Drive, Elmsford, New York 10523; and

GLD Products, S84 W19093 Enterprise Drive, Muskego, Wisconsin 53150.

(c) Erin D.E. Joffre, Esq., Office of Unfair Import Investigations, U.S. International Trade Commission, 500 E Street, SW., Suite 401, Washington, DC 20436, who shall be the Commission investigative attorney, party to this investigation; and

(3) For the investigation so instituted, the Honorable Sidney Harris is designated as the presiding administrative law judge.

Responses to the complaint and the notice of investigation must be submitted by the named respondents in accordance with section 210.13 of the Commission's Rules of Practice and Procedure, 19 CFR 210.13. Pursuant to 19 CFR 201.16(d) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter a final determination containing such findings, and may result in the issuance of a limited exclusion order or cease and desist order or both directed against the respondent.

By order of the Commission.
Issued: March 29, 2005.
Marilyn R. Abbott,
Secretary to the Commission.

[FR Doc. 05-6529 Filed 4-1-05; 8:45 am]

BILLING CODE 7020-02-P